DEPARTMENT OF DEFENSE

Office of the Secretary

[Transmittal No. 21-35]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives with attached Transmittal 21-35, Policy Justification, and Sensitivity of Technology.

Dated: August 12, 2024.
Patricia L. Toppings,
OSD Federal Register Liaison Officer, Department of Defense.

BILLING CODE 6001-FR-P

BILLING CODE 6001-FR-C

Transmittal No. 21-35

Notice of Proposed Issuance of Letter of Offer Pursuant to Section 36(b)(1) of the Arms Export Control Act, as Amended

(i) Prospective Purchaser: Government of Oman

(ii) Total Estimated Value:

Major Defense Equipment * | $185 million
Other | $200 million
TOTAL | $385 million

Funding Source: National Funds

(iii) Description and Quantity or Quantities of Articles or Services under Consideration for Purchase:

Major Defense Equipment (MDE):

Forty-eight (48) AGM-154C Joint Stand Off Weapons (JSOW)

Non-MDE:

Also included are Dummy Air Training Missiles; Captive Flight Vehicles (CFVs) and/or Captive Air Training Missiles (CATMs); Environmental Determination Test Vehicles (EDTVs); Free Flight Vehicles (FFVs); containers; mission planning; integration support and testing; munitions storage security and training; weapon operational flight program software development; transportation; tools and test equipment; support equipment; spare and repair parts; publications and technical documentation; personnel training and training equipment; U.S. Government and contractor engineering, technical, and logistics support services; and other related elements of logistics and program support.

(iv) Military Department: Navy (MU-P-AAF)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: November 9, 2022

*As defined in Section 47(6) of the Arms Export Control Act.

POLICY JUSTIFICATION

Oman—Joint Stand Off Weapons (JSOW)

The Government of Oman has requested to buy forty-eight (48) AGM-154C Joint Stand Off Weapons (JSOW). Also included are Dummy Air Training Missiles; Captive Flight Vehicles (CFVs) or Captive Air Training Missiles (CATMs); Environmental Determination Test Vehicles (EDTVs); Free Flight Vehicles (FFVs); containers; mission planning; integration support and testing; munitions storage security and training; weapon operational flight program software development; transportation; tools and test equipment; support equipment; spare and repair parts; publications and technical documentation; personnel training and training equipment; U.S. Government and contractor engineering, technical, and logistics support services; and other related elements of logistics and program support. The estimated total cost is $385 million.

This proposed sale will support the foreign policy and national security of the United States by helping to improve the security of a friendly country that continues to be an important force for political stability and economic progress in the Middle East.

The proposed sale would increase the Royal Air Force of Oman's ability to secure Oman's borders, airspace, and territorial waters. This expanded capacity will be a force multiplier and help negate regional security threats. Recent attacks on ships in the Gulf of Oman have increased Oman's need for weapons that enable it to defend its territorial waters and ensure freedom of navigation. Oman will have no difficulty absorbing these articles into its armed forces.

The proposed sale of this equipment and support will not alter the basic military balance in the region.

The principal contractor will be Raytheon Missiles and Defense Company, Tucson, AZ. There are no known offset agreements proposed in connection with this potential sale.

Implementation of this proposed sale will require annual trips to Oman involving U.S. Government and contractor representatives for technical reviews, support, and oversight for approximately seven years.

There will be no adverse impact on U.S. defense readiness as a result of this proposed sale.

Transmittal No. 21-35

Notice of Proposed Issuance of Letter of Offer Pursuant to Section 36(b)(1) of the Arms Export Control Act

Annex

Item No. vii

(vii) Sensitivity of Technology:

1. The AGM-154 JSOW is used by Navy, Marine Corps, and Air Force, and allows aircraft to attack well-defended targets in day, night, and adverse weather conditions. The AGM-154C carries a BROACH warhead. The BROACH warhead incorporates an advanced multistage warhead. The JSOW uses the Global Positioning System (GPS) Precise Positioning System (PPS), which provides for a more accurate capability than the commercial version of GPS.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Oman can provide substantially the same degree of protection for the sensitive technology being released as the U.S. Government. This sale is necessary in furtherance of the U.S. foreign policy and national security objectives outlined in the Policy Justification.

5. All defense articles and services listed in this transmittal are authorized for release and export to the Government of Oman.

[FR Doc. 2024-18292 Filed 8-14-24; 8:45 am]

BILLING CODE 6001-FR-P